DEPARTMENT OF ENERGY

Federal Energy Regulatory Commission

Change In Date for the December Commission Open Meeting

Take notice that the Commission has changed the date for its December 2023 open meeting. The meeting will now take place on Tuesday, December 19, 2023. The open meeting had been initially scheduled for Thursday, December 21, 2023.¹

¹ The start time of the meeting remains 10:00 a.m. Eastern Time.

Dated: October 26, 2023.
Debbie-Anne A. Reese,
Deputy Secretary.

[FR Doc. 2023-24274 Filed 11-2-23; 8:45 am]

BILLING CODE 6717-01-P